DEPARTMENT OF TRANSPORTATION

Research and Special Programs Administration

49 CFR Parts 173 and 178

[Docket No. RSPA-97-2718 (HM-225A)]

RIN 2137-AD07

Hazardous Materials Safety: Technology Sharing Meeting

AGENCY: Research and Special Programs Administration (RSPA), DOT.

ACTION: Notice of public meeting.

SUMMARY: RSPA is hosting a meeting to promote the exchange of information concerning emergency shutdown equipment on cargo tank motor vehicles used to transport liquefied compressed gases.

DATES: The meeting will be held on Tuesday, June 27, 2000, from 10:00 am to 5:00 pm (registration from 8:30 am to 10:00 am), and Wednesday, June 28, 2000, from 8:30 am to 12:30 pm.

ADDRESSES: The meeting will be held in the Michigan and Minnesota Rooms of the Federal Aviation Administration Building, 2300 East Devon Avenue, Des Plaines, Illinois. For information on facilities or services for individuals with disabilities or to request special assistance at the meetings, contact Eloy Martinez at the address or phone number listed under FOR FURTHER INFORMATION CONTACT as soon as possible.

FOR FURTHER INFORMATION CONTACT: Herbert Gould, Volpe Center, Research and Special Programs Administration, 617-494-2134; or Eloy Martinez, Volpe Center, Research and Special Programs Administration, 617-494-2599.

SUPPLEMENTARY INFORMATION:

I. Background

On May 24, 1999, the Research and Special Programs Administration (RSPA; “we”) published a final rule under Docket No. RSPA-97-2718 (HM-225A) (64 FR 28030). The final rule revised regulations applicable to the transportation and unloading of liquefied compressed gases, including liquefied petroleum gases, anhydrous ammonia, and chlorine. The revisions included new inspection, maintenance, and testing requirements for cargo tank discharge systems and revised attendance requirements applicable to liquefied petroleum gas and anhydrous ammonia. The final rule was developed through a negotiated rulemaking. In addition to the Department of Transportation, the negotiated rulemaking committee consisted of persons representing businesses that transport and deliver liquefied petroleum gases, anhydrous ammonia and other liquefied compressed gases; manufacturers and operators of cargo tanks and vehicle components; and state and local public safety and emergency response agencies.

Among other requirements, the final rule revised requirements for cargo tank emergency discharge control equipment to provide a clear performance standard for passive emergency discharge control equipment that shuts down unloading operations without human intervention. The revised requirements also provided for a remote capability for certain cargo tanks to enable a person attending the unloading operation to shut off the flow of product when unloading duties require the person to be away from the motor vehicle during delivery.

The final rule allowed two years for development and testing of emergency discharge control technology. After July 1, 2001, newly manufactured MC 331 cargo tank motor vehicles must be equipped with emergency discharge control equipment that conforms to the performance standards. MC 330, MC 331, and certain nonspecification cargo tank motor vehicles already in service must be retrofitted over a five-year period beginning after July 1, 2001, on a schedule that coincides with the cargo tank's scheduled pressure test in accordance with 49 CFR part 180.407(c).

II. Public Meeting

In developing the HM-225A final rule, the negotiated rulemaking committee anticipated that periodic progress reviews would be needed during the two-year development and testing cycle for emergency discharge control technology. Such reviews help promote communication between industry and government and function as a catalyst for critical development and testing needs that may occur. Committee members planned to work in partnership to assure widespread dissemination of information related to development and testing of emergency discharge control technology.

Accordingly, we are hosting a public meeting to foster the exchange of information among interested parties concerned with the safe transportation of liquefied compressed gases in cargo tank motor vehicles. The meeting will focus specifically on emergency discharge control system technology, including both passive and off-truck remote shutdown equipment.

The meeting will be held in the Chicago, Illinois, area on June 27 and 28, 2000. To pre-register, please contact Eloy Martinez, telephone 617-494-2599, fax 617-494-3616, e-mail martinez@volpe.dot.gov.

A simple, flexible agenda is being prepared by industry representatives who participated in the development of the final rule. Any demonstrations of discharge control equipment or systems should be planned for the morning of June 27. Prospective demonstrators should contact Eloy Martinez as soon as possible.

This is an informal meeting to promote the free exchange of information concerning emergency discharge control systems on cargo tank motor vehicles, including recent technology developments, test results, operating experience, and the like. There will be no transcript of the meeting; however, we will prepare minutes of the meeting and written questions and answers developed in response to issues raised. This information will be made available on the HazMat Safety Website (http://hazmat.dot.gov).

Issued in Washington, DC on May 9, 2000.
Robert A. McGuire,
Acting Associate Administrator for Hazardous Materials Safety.

[FR Doc. 00-12073 Filed 5-12-00; 8:45 am]

BILLING CODE 4910-60-P